DEPARTMENT OF COMMERCE

International Trade Administration

[A-533-808]

Certain Stainless Steel Wire Rod From India: Continuation of Antidumping Duty Order

AGENCY: Enforcement and Compliance, International Trade Administration, Department of Commerce.

SUMMARY: As a result of the determinations by the Department of Commerce (the Department) and the International Trade Commission (ITC) that revocation of the antidumping duty order on certain stainless steel wire rods (wire rods) from India would likely lead to continuation or recurrence of dumping and material injury to an industry in the United States, the Department is publishing a notice of continuation of the antidumping duty order.

DATES: Effective June 23, 2017.

FOR FURTHER INFORMATION CONTACT: Andre Gziryan, AD/CVD Operations, Office I, Enforcement and Compliance, International Trade Administration, U.S. Department of Commerce, 1401 Constitution Avenue NW., Washington, DC 20230; telephone (202) 482-2201.

SUPPLEMENTARY INFORMATION:

Background

On December 1, 1993, the Department published the AD order on wire rods from India.¹ On December 1, 2016, the Department published the notice of initiation of the fourth sunset review of the antidumping duty order on wire rods from India, pursuant to section 751(c) of the Tariff Act of 1930, as amended (the Act).² On December 1, 2016, the ITC instituted its review of the antidumping duty order on wire rods from India.³

¹ Antidumping Duty Order: Certain Stainless Steel Wire Rods From India, 58 FR 63335 (December 1, 1993).

² See Initiation of Five-Year (Sunset) Reviews, 81 FR 86697 (December 1, 2016).

³ See Stainless Steel Wire Rod From India; Institution of a Five-Year Review, 81 FR 86728 (December 1, 2016).

As a result of this sunset review, the Department determined that revocation of the antidumping duty order on wire rods from India would be likely to lead to continuation or recurrence of dumping and notified the ITC of the magnitude of the margins likely to prevail should the order be revoked.⁴

⁴ See Certain Stainless Steel Wire Rods From India: Final Results of the Expedited Fourth Sunset Review of the Antidumping Duty Order, 82 FR 16795 (April 6, 2017).

On June 6, 2017, pursuant to sections 751(c) and 752(a) of the Act, the ITC determined that revocation of the antidumping duty order on wire rods from India would be likely to lead to continuation or recurrence of material injury to an industry in the United States within a reasonably foreseeable time.⁵

⁵ See Stainless Steel Wire Rod From India, 82 FR 26943 (June 12, 2017), and ITC Publication entitled Stainless Steel Wire Rod From India: Investigation No. 731-TA-638 (Fourth Review) (June 2017).

Scope of the Order

The merchandise covered by the antidumping duty order is certain stainless steel wire rods from India, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0017, 7221.00.0018, 7221.00.0030, 7221.00.0045, and 7221.00.0075 of the Harmonized Tariff Schedule of the United States (HTSUS).⁶ Although the HTSUS subheadings are provided for convenience and customs purposes, the written description of the merchandise subject to the order is dispositive.

⁶ The merchandise subject to the scope of this order was originally classifiable under all of the following HTS subheadings: 7221.00.0005, 7221.00.0015, 7221.00.0020, 7221.00.0030, 7221.00.0040, 7221.00.0045, 7221.00.0060, 7221.00.0075, and 7221.00.0080. HTSUS subheadings 7221.00.0015, 7221.00.0020, 7221.00.0040, 7221.00.0060, and 7221.00.0080, no longer exist.

Continuation of the Order

As a result of the determinations by the Department and the ITC that revocation of the antidumping duty order would likely lead to continuation or recurrence of dumping and material injury to an industry in the United States, pursuant to section 751(d)(2) of the Act, the Department hereby orders the continuation of the antidumping duty order on wire rods from India.

U.S. Customs and Border Protection will continue to collect antidumping duty cash deposits at the rates in effect at the time of entry for all imports of subject merchandise. The effective date of continuation of this order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act, and 19 CFR 351.218(f)(4).

Dated: June 19, 2017.
Gary Taverman,
Deputy Assistant Secretary for Antidumping and Countervailing Duty Operations.

[FR Doc. 2017-13136 Filed 6-22-17; 8:45 am]

BILLING CODE 3510-DS-P